DEPARTMENT OF HEALTH AND HUMAN SERVICES

Centers for Medicare and Medicaid Services

[Document Identifier: CMS-10024]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (CMS)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision of a currently approved collection; Title of Information Collection: Medicare Health Survey (MHS) and Data Collection for Administering the PACE Health Survey to Beneficiaries Enrolled in PACE and the Dual Eligible Demonstrations; Form No.: CMS-10024 (OMB# 0938-0844); Use: The Centers for Medicare & Medicaid Services has developed a survey, the PHS, that is similar to the Health Outcomes Survey (HOS). This survey was approved for PACE and the Wisconsin Partnership Program (WPP) on March 14, 2003. OMB also approved the use of the PHS to beneficiaries enrolled in Minnesota Senior Health Options and Minnesota Disability Health Options (MSHO/MnDHO) on June 3, 2003 for a 6-month period. This PRA submission combines OMB approval for PACE, WPP 0938-0844 with OMB approval for MSHO/MnDHO 0938-0899 and requests to administer the PHS to beneficiaries enrolled in MassHealth SCO as well as administer the PHS in year 2005. The main purpose of the PHS is to collect health status information that may be used to adjust Medicare payment to MSHO/MnDHO health plan organizations. It has been successfully pilot-tested to assess response rates and accuracy of responses under different distribution approaches. The pilot test enabled CMS to select an approach whereby PACE and Dual Eligible Demonstration enrollees will be sent surveys to fill out and can request assistance from family or professionals; Frequency: Annually; Affected Public: Individuals or Households and Not-for-profit institutions; Number of Respondents: 15,859; Total Annual Responses: 10,785; Total Annual Hours: 1,798.

To obtain copies of the supporting statement and any related forms for the proposed paperwork collections referenced above, access CMS's Web site address at http://cms.hhs.gov/regulations/pra/default.asp, or e-mail your request, including your address, phone number, OMB number, and CMS document identifier, to paperwork@cms.hhs.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room: C5-14-03, 7500 Security Boulevard, Baltimore, Maryland 21244-1850.

Dated: July 10, 2003.
Dawn Willinghan,
CMS Reports Clearance Officer, Division of Regulations Development and Issuances, Office of Strategic Operations and Strategic Affairs.

[FR Doc. 03-18059 Filed 7-16-03; 8:45 am]

BILLING CODE 4120-03-P